DEPARTMENT OF HOMELAND SECURITY

Federal Emergency Management Agency

Agency Information Collection Activities: Proposed Collection; Comment Request

AGENCY: Federal Emergency Management Agency, Emergency Preparedness and Response Directorate, Homeland Security.

ACTION: Notice and request for comments.

SUMMARY: The Federal Emergency Management Agency, as part of its continuing effort to reduce paperwork and respondent burden, invites the general public, state, local, or tribal governments and other Federal agencies to take this opportunity to comment on the proposed collection of information. In accordance with the Paperwork Reduction Act of 1995 (44 U.S.C. 3506(c)(2)(A)), this notice seeks comments on the Application for Community Disaster Loan.

SUPPLEMENTARY INFORMATION: The Community Disaster Loan (CDL) Program is authorized by section 417 of the Disaster Relief Act of 1974 (Pub. L. 93-288), as amended by the Robert T. Stafford Disaster Relief and Emergency Assistance Act of 1988 (Pub. L. 100-707), and implemented by FEMA regulation 44 CFR, subpart K, Community Disaster Loans, Section 206.364. The CDL Program offers loans to local governments that have suffered a substantial loss of tax or other revenues as a result of a major disaster or emergency and demonstrates a need for Federal financial assistance in order to perform their governmental functions. The loan must be justified on the basis of need and be based on the actual and projected expenses, as a result of the disaster, for the fiscal year in which the disaster occurred and the three succeeding fiscal years.

Collection of Information

Title: Application for Community Disaster Loan .

Type of Information Collection: Reinstatement, without change, of a previously approved collection for which approval has expired.

OMB Number: 3067-0034.

Form Number: FEMA Form 90-7.

Abstract: The local government may submit an Application for Community Disaster Loan through the Governor's Authorized Representative. The loan must be justified on the basis of need and be based on the actual and projected expenses, as a result of a major disaster declaration, for the fiscal year in which the disaster occurred and for the 3 succeeding fiscal years.

Affected Public: State, Local, or Tribal Governments.

Estimated Total Annual Burden Hours: 30.

Number of Respondents: 5.

Frequency of Response: On occasion.

Hour Burden Per Response: 6 hours.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Information Resources Management Division, Information Technology Services Directorate, Federal Emergency Management Agency, Emergency Preparedness and Response Directorate, Department of Homeland Security, 500 C Street, SW., Room 316, Washington, DC 20472.

FOR FURTHER INFORMATION CONTACT: Contact Gerry Miederhoff at (202) 646-3683 for additional information regarding this information collection. You may contact Ms. Anderson for copies of the proposed information collection at (202) 646-2625, facsimile number (202) 646-3347, or by e-mail at InformationCollections@fema.gov.

Dated: March 26, 2003.
Vernon Adler,
Acting Division Director, Information Resources Management Division, Information Technology Services Directorate.

[FR Doc. 03-7789 Filed 4-1-03; 8:45 am]

BILLING CODE 6718-01-P